NEIGHBORHOOD REINVESTMENT CORPORATION

Neighborworks® America Regular Board of Directors Meeting; Sunshine Act

Time and Date: 1 p.m., Friday, March 20, 2009.

Place: 1325 G Street NW., Suite 800, Boardroom, Washington, DC 20005.

Status: Open.

Contact Person For More Information: Erica Hall, Assistant Corporate Secretary, (202) 220-2376; ehall@nw.org.

Agenda

I. Call to Order

II. Approval of the Minutes

III. Summary Report of the Audit Committee

IV. Summary Report of the Corporate Administration Committee

V. Summary Report of the Finance, Budget and Program Committee

VI. Approval of Committee Appointments

VII. Financial Report

VIII. Corporate Scorecard

IX. Chief Executive Officer's Quarterly Management Report

X. Adjournment

Erica Hall,
Assistant Corporate Secretary.

[FR Doc. E9-6196 Filed 3-18-09; 11:15 am]

BILLING CODE 7570-02-P